FEDERAL COMMUNICATIONS COMMISSION

47 CFR Part 73

[MM Docket No. 92-3, RM-7874, RM-7958]

Radio Broadcasting Services; Prineville and Sisters, OR

AGENCY: Federal Communications Commission.

ACTION: Final rule.

SUMMARY: This document dismisses a Petition for Reconsideration filed jointly by multiple licensees in Oregon directed to the Report and Order in this proceeding which upgraded Station KPXA, Sisters, Oregon, to specify operation on Channel 281C1. See 57 FR 47006, October 14, 1992.

FOR FURTHER INFORMATION CONTACT: Robert Hayne, Mass Media Bureau (202) 418-2177.

SUPPLEMENTARY INFORMATION: This is a synopsis of the Commission's Memorandum Opinion and Order in MM Docket No. 92-3, adopted December 6, 2000, and released December 8, 2000. The full text of this decision is available for inspection and copying during normal business hours in the FCC Reference Information Center at Portals ll, CY-A257, 445 12th Street, SW, Washington, DC. The complete text of this decision may also be purchased from the Commission's copy contractor, International Transcription Service, Inc., (202) 857-3805, 1231 M Street, NW, Washington, DC 20036.

Federal Communications Commission.
John A. Karousos,
Chief, Allocations Branch, Policy and Rules Division, Mass Media Bureau.

[FR Doc. 00-32245 Filed 12-18-00; 8:45 am]

BILLING CODE 6712-01-P